OVERSEAS PRIVATE INVESTMENT CORPORATION

Sunshine Act Meeting Notice; Cancellation of September 11, 2013 Public Hearing

OPIC's Sunshine Act notice of its Public Hearing in Conjunction with each Board meeting was published in the Federal Register (Volume 78, Number 139, Pages 43244 and 43245) on July 19, 2013. No requests were received to provide testimony or submit written statements for the record; therefore, OPIC's public hearing scheduled for 2 p.m., September 11, 2013 in conjunction with OPIC's September 19, 2013 Board of Directors meeting has been cancelled.

Contact Person for Information: Information on the hearing cancellation may be obtained from Connie M. Downs at (202) 336-8438, or via email at Connie.Downs@opic.gov.

Dated: September 6, 2013.
Connie M. Downs,
OPIC Corporate Secretary.

[FR Doc. 2013-22287 Filed 9-10-13; 11:15 am]

BILLING CODE P